DEPARTMENT OF ENERGY

Federal Energy Regulatory Commission

[Project No. 1354-081]

Pacific Gas & Electric Company; Notice of Availability of Supplemental Environmental Assessment

In accordance with the National Environmental Policy Act of 1969, as amended, and the Federal Energy Regulatory Commission's (Commission) regulations (18 CFR part 380), Commission staff prepared a Supplemental Environmental Assessment (SEA), to supplement the Final EA that was issued on February 19, 2010 regarding Pacific Gas & Electric Company's (PG&E) proposal to perform Commission-required seismic remediation work at Crane Valley Dam, part of the Crane Valley Hydroelectric Project. The Crane Valley Project occupies approximately 738 acres of federal lands within the Sierra National Forest, and is located approximately 40 miles northeast of the city of Fresno in Madera County, California. PG&E is currently performing the seismic remediation work and supporting activities analyzed in the February 19, 2010 Final EA.

PG&E is proposing two new contingency actions that are necessary to ensure that the seismic work at Crane Valley Dam can be completed in a timely manner. First, PG&E proposes to increase the amount of imported rock fill hauled from off-site quarries to ensure an adequate supply of quality rock for completion of the work. Second, PG&E proposes to install, and operate on an as-needed basis, a primary bypass diversion to pass water around the dam to assist in reservoir level control during work on the upstream face of the dam, as well as a minimum flow bypass diversion to ensure continuation of required minimum flow releases.

The SEA examines the environmental effects of PG&E's proposed contingency actions and resource protection and mitigation plans that PG&E would follow in accordance with consultation with federal and state resource agencies, and also recommends further measures to minimize any environmental effects. In the SEA, staff concludes that the proposed contingency actions, compliance with the resource protection and mitigation plans, and the recommended measures, would not constitute a major federal action significantly affecting the quality of the human environment.

A copy of the SEA is available for review at the Commission's Public Reference Room, or it may be viewed on the Commission's Web site at http://www.ferc.gov using the “eLibrary” link. Enter the docket number (P-1354) in the docket number field to access the document. For assistance, call (202) 502-8222, or (202) 502-8659 (for TTY).

For further information on this notice, please contact B. Peter Yarrington at (202) 502-6129.

Dated: November 9, 2011.
Kimberly D. Bose,
Secretary.

[FR Doc. 2011-29541 Filed 11-15-11; 8:45 am]

BILLING CODE 6717-01-P